BROADCASTING BOARD OF GOVERNORS

Sunshine Act Meetings

TIME AND DATE: Wednesday, September 5, 2018, 10:30 a.m. ET.

PLACE: Cohen Building, Room 3321, 330 Independence Ave. SW, Washington, DC 20237.

STATUS: This meeting will be open to the public.

MATTERS TO BE CONSIDERED: The Broadcasting Board of Governors (Board) will be meeting at the time and location listed above. The Board will vote on a consent agenda consisting of the minutes of its June 6, 2018 meeting and a resolution honoring the 55th anniversary of Voice of America's English to Africa Service. The Board will receive a report from the Chief Executive Officer and Director of BBG.

This meeting will be available for public observation via streamed webcast, both live and on-demand, on the agency's public website at www.bbg.gov. Information regarding this meeting, including any updates or adjustments to its starting time, can also be found on the agency's public website.

The public may also attend this meeting in person at the address listed above as seating capacity permits. Members of the public seeking to attend the meeting in person must register at https://bbgboardmeetingsept2018.eventbrite.com by 12:00 p.m. (ET) on September 4. For more information, please contact BBG Public Affairs at (202) 203-4400 or by email at pubaff@bbg.gov.

CONTACT PERSON FOR MORE INFORMATION: Persons interested in obtaining more information should contact Oanh Tran at (202) 203-4545.

Oanh Tran,
Managing Director.

[FR Doc. 2018-19085 Filed 8-29-18; 11:15 am]

BILLING CODE 8610-01-P